DEPARTMENT OF THE TREASURY

Financial Management Service

31 CFR Part 205

Public Meetings on Proposed Revisions to the Regulations Implementing the Cash Management Improvement Act

Correction

In proposed rule document 00-28579 beginning on page 66671 in the issue of Tuesday, November 7, 2000 make the following corrections:

1. On page 66671, in the first column, under the heading ADDRESSES in the fifth line, “A 7 B” should read “A & B”.

2. On the same page, in the third column, in the second paragraph, in the third line “allowed” should read “disallowed”.

3. On the same page, in the same column, in the same paragraph, in the fourth line “by” should read “be”.

4. On the same page, in the same column, in the sixth paragraph, in the third line “Plan” should read “Plain”.

5. On page 66672, in the first column, in the first paragraph, in the fourth line “http://www.fms.treas.giv/policymia” should read “http://www.fms.treas.gov/policycmia”.

[FR Doc. C0-28579 Filed 11-14-00; 8:45 am]

BILLING CODE 1505-01-D